DEPARTMENT OF ENERGY

Federal Energy Regulatory Commission

Combined Notice of Filings #1

January 19, 2011.

Take notice that the Commission received the following electric corporate filings:

Docket Numbers: EC11-37-000.

Applicants: Ohio Power Company, Columbus Southern Power Company

Description: Application for Approval of Internal Reorganization Under Section 203 of the Federal Power Act of Ohio Power Company, et al.

Filed Date: 01/18/2011.

Accession Number: 20110118-5313.

Comment Date: 5 p.m. Eastern Time on Tuesday, February 8, 2011.

Take notice that the Commission received the following electric rate filings:

Docket Numbers: ER08-656-007; EL10-83-000.

Applicants: Shell Energy North America (US), L.P.

Description: Response of Shell Energy North America (US), L.P. to Show Cause Order.

Filed Date: 01/12/2011.

Accession Number: 20110112-4007.

Comment Date: 5 p.m. Eastern Time on Wednesday, February 2, 2011.

Docket Numbers: ER10-2116-001.

Applicants: KCP&L Greater Missouri Operations Company.

Description: KCP&L Greater Missouri Operations Company submits tariff filing per 35: GMO OATT Baseline Compliance Filing to be effective 8/4/2010.

Filed Date: 01/19/2011.

Accession Number: 20110119-5143.

Comment Date: 5 p.m. Eastern Time on Wednesday, February 9, 2011.

Docket Numbers: ER10-2531-002.

Applicants: Cedar Creek Wind Energy, LLC.

Description: Cedar Creek Wind Energy, LLC's Notice of Non-Material Change in Status.

Filed Date: 01/18/2011.

Accession Number: 20110118-5236.

Comment Date: 5 p.m. Eastern Time on Tuesday, February 8, 2011.

Docket Numbers: ER10-3211-001.

Applicants: Sempra Energy Trading LLC.

Description: Sempra Energy Trading LLC submits tariff filing per 35: Sempra Energy Trading LLC Revised MBR and Reactive Power Tariffs to be effective 9/29/2010.

Filed Date: 01/19/2011.

Accession Number: 20110119-5031.

Comment Date: 5 p.m. Eastern Time on Wednesday, February 9, 2011.

Docket Numbers: ER11-1830-001.

Applicants: California Independent System Operator Corporation.

Description: California Independent System Operator Corporation submits tariff filing per 35: 2011-01-18 CAISO's Generator Interconnection Procedures Compliance Filing to be effective 12/19/2010.

Filed Date: 01/18/2011.

Accession Number: 20110118-5282.

Comment Date: 5 p.m. Eastern Time on Tuesday, February 8, 2011.

Docket Numbers: ER11-2030-002.

Applicants: Hinson Power Company, LLC.

Description: Hinson Power Company, LLC submits tariff filing per 35: Hinson Baseline Tariff Compliance Filing to be effective 11/4/2010.

Filed Date: 01/19/2011.

Accession Number: 20110119-5056.

Comment Date: 5 p.m. Eastern Time on Wednesday, February 9, 2011.

Docket Numbers: ER11-2449-001.

Applicants: Connecticut Gas & Electric, Inc.

Description: Connecticut Gas & Electric, Inc. submits tariff filing per 35.17(b): Connecticut Gas & Electric, Inc. Supplemental Filing to be effective 2/15/2011.

Filed Date: 01/19/2011.

Accession Number: 20110119-5083.

Comment Date: 5 p.m. Eastern Time on Wednesday, February 9, 2011.

Docket Numbers: ER11-2456-001.

Applicants: The Trustees of the University of Pennsylvania.

Description: The Trustees of the University of Pennsylvania submits tariff filing per 35: Baseline Tariff Filing to be effective 1/19/2011.

Filed Date: 01/19/2011.

Accession Number: 20110119-5114.

Comment Date: 5 p.m. Eastern Time on Wednesday, February 9, 2011.

Docket Numbers: ER11-2493-001.

Applicants: Mountain Wind Power, LLC.

Description: Mountain Wind Power, LLC submits tariff filing per 35: Mountain Wind Power, LLC Supplement to Notice of Category 1 Seller Status to be effective 12/23/2010.

Filed Date: 01/19/2011.

Accession Number: 20110119-5090.

Comment Date: 5 p.m. Eastern Time on Wednesday, February 9, 2011.

Docket Numbers: ER11-2494-001.

Applicants: Mountain Wind Power II LLC.

Description: Mountain Wind Power II LLC submits tariff filing per 35: Mountain Wind Power II LLC Supplement to Notice of Category 1 Seller Status to be effective 12/23/2010.

Filed Date: 01/19/2011.

Accession Number: 20110119-5091.

Comment Date: 5 p.m. Eastern Time on Wednesday, February 9, 2011.

Docket Numbers: ER11-2694-000.

Applicants: Southern California Edison Company.

Description: Request for Waiver of Southern California Edison Company.

Filed Date: 01/14/2011.

Accession Number: 20110114-5252.

Comment Date: 5 p.m. Eastern Time on Friday, February 4, 2011.

Docket Numbers: ER11-2697-000.

Applicants: PacifiCorp.

Description: PacifiCorp submits tariff filing per 35.13(a)(2)(iii: BPA Cooperative Communications Agreement 2nd Revised to be effective 12/2/2010.

Filed Date: 01/18/2011.

Accession Number: 20110118-5261.

Comment Date: 5 p.m. Eastern Time on Tuesday, February 8, 2011.

Docket Numbers: ER11-2698-000.

Applicants: Black Hills Power, Inc.

Description: Black Hills Power, Inc. submits tariff filing per 35.13(a)(2)(iii: CUS JOATT Schedule 2 to be effective 1/16/2011.

Filed Date: 01/19/2011.

Accession Number: 20110119-5005.

Comment Date: 5 p.m. Eastern Time on Wednesday, February 9, 2011.

Docket Numbers: ER11-2699-000.

Applicants: The Dayton Power and Light Company.

Description: The Dayton Power and Light Company submits tariff filing per 35.15: FERC Rate Schedule No. 42, Village of Arcanum to be effective 1/19/2011.

Filed Date: 01/19/2011.

Accession Number: 20110119-5035.

Comment Date: 5 p.m. Eastern Time on Wednesday, February 9, 2011.

Docket Numbers: ER11-2700-000.

Applicants: Midwest Independent Transmission System Operator, Inc.

Description: Midwest Independent Transmission System Operator, Inc. submits tariff filing per 35.13(a)(2)(iii: 1-19-11 CMMPA Filing to be effective 7/28/2010.

Filed Date: 01/19/2011.

Accession Number: 20110119-5075.

Comment Date: 5 p.m. Eastern Time on Wednesday, February 9, 2011.

Docket Numbers: ER11-2701-000.

Applicants: Mountain View Power Partners IV, LLC.

Description: Mountain View Power Partners IV, LLC submits tariff filing per 35.12: Baseline Filing to be effective 3/20/2011.

Filed Date: 01/19/2011.

Accession Number: 20110119-5092.

Comment Date: 5 p.m. Eastern Time on Wednesday, February 9, 2011.

Docket Numbers: ER11-2702-000.

Applicants: La Paloma Generating Company, LLC.

Description: La Paloma Generating Company, LLC submits tariff filing per 35: January 19, 2011 Compliance Filing to be effective 9/30/2010.

Filed Date: 01/19/2011.

Accession Number: 20110119-5104.

Comment Date: 5 p.m. Eastern Time on Wednesday, February 9, 2011.

Docket Numbers: ER11-2703-000.

Applicants: AEP Texas Central Company.

Description: AEP Texas Central Company submits tariff filing per 35.1: TCC RS and SA Baseline to be effective 1/20/2011.

Filed Date: 01/19/2011.

Accession Number: 20110119-5111.

Comment Date: 5 p.m. Eastern Time on Wednesday, February 9, 2011.

Docket Numbers: ER11-2704-000.

Applicants: PJM Interconnection, L.L.C.

Description: PJM Interconnection, L.L.C. submits tariff filing per 35.13(a)(2)(iii: WMPA No. 2713, Queue No. V4-027, Keystone Solar LLC and PPL to be effective 12/13/2010.

Filed Date: 01/19/2011.

Accession Number: 20110119-5119.

Comment Date: 5 p.m. Eastern Time on Wednesday, February 9, 2011.

Docket Numbers: ER11-2705-000.

Applicants: California Independent System Operator Corporation.

Description: California Independent System Operator Corporation submits tariff filing per 35: 2011-01-19 CAISO Revised Transmission Planning Process Compliance filing to be effective 12/20/2010.

Filed Date: 01/19/2011.

Accession Number: 20110119-5140.

Comment Date: 5 p.m. Eastern Time on Wednesday, February 9, 2011.

Docket Numbers: ER11-2706-000.

Applicants: PJM Interconnection, L.L.C.

Description: PJM Interconnection, L.L.C. submits tariff filing per 35.13(a)(2)(iii: WMPA No. 2722, Queue No. W2-036, PSE&G and PSE&G to be effective 1/13/2011.

Filed Date: 01/19/2011.

Accession Number: 20110119-5141.

Comment Date: 5 p.m. Eastern Time on Wednesday, February 9, 2011.

Docket Numbers: ER11-2707-000.

Applicants: PJM Interconnection, L.L.C.

Description: PJM Interconnection, L.L.C. submits tariff filing per 35.13(a)(2)(iii: WMPA No. 2711, Queue W1-083, West Deptford Solar, L.L.C. and PSE&G to be effective 12/9/2010.

Filed Date: 01/19/2011.

Accession Number: 20110119-5142.

Comment Date: 5 p.m. Eastern Time on Wednesday, February 9, 2011.

Take notice that the Commission received the following public utility holding company filings:

Docket Numbers: PH11-12-000.

Applicants: IP Gyrfalcon Company, LLC.

Description: Notice of Change in Facts of International Power America, Inc.

Filed Date: 01/14/2011.

Accession Number: 20110114-5235.

Comment Date: 5 p.m. Eastern Time on Friday, February 4, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2011-1575 Filed 1-25-11; 8:45 am]

BILLING CODE 6717-01-P